SECURITIES AND EXCHANGE COMMISSION

[Release No. 34-84685; File No. SR-Phlx-2018-76]

Self-Regulatory Organizations; Nasdaq PHLX LLC; Notice of Filing and Immediate Effectiveness of Proposed Rule Change To Amend the Pilot Period for the Listing of P.M.-Settled Nasdaq-100 Index Options Expiring on the Third Friday of the Month

November 29, 2018.

Correction

In notice document 2018-26396 beginning on page 62942 in the issue of Thursday, December 6, 2018, make the following correction:

On page 62943, in the third column, the last line of the first full paragraph “December 26, 2018” should read “December 27, 2018”.

[FR Doc. C1-2018-26396 Filed 12-26-18; 8:45 am]

BILLING CODE 1301-00-D